DEPARTMENT OF DEFENSE

Office of the Secretary

Federal Advisory Committee; Defense Health Board (DHB) Meeting

AGENCY: Department of Defense (DoD).

ACTION: Notice of meeting.

SUMMARY: Pursuant to the Federal Advisory Committee Act of 1972 (5 U.S.C., Appendix as amended), the Sunshine in the Government Act of 1976 (5 U.S.C. 552b, as amended), and 41 CFR 102-3.150, and in accordance with section 10(a)(2) of Public Law, a Defense Health Board (DHB) meeting is announced.

DATES:

November 27, 2012

8:00 a.m.-9:00 a.m. (Administrative Working Meeting)

9:00 a.m.-12:15 p.m. (Open Session)

12:15 p.m.-1:00 p.m. (Administrative Working Meeting)

1:00 p.m.-5:00 p.m. (Open Session)

November 28, 2012

8:00 a.m.-12:00 p.m. (Administrative Working Meeting)

ADDRESSES: Renaissance Arlington Capital View Hotel, 2800 South Potomac Avenue, Arlington, Virginia 22202.

FOR FURTHER INFORMATION CONTACT: Ms. Christine Bader, Director, Defense Health Board, 7700 Arlington Boulevard, Suite 5101, Falls Church, Virginia 22042, (703) 681-6653, Fax: (703) 681-3317, Christine.bader@tma.osd.mil.

SUPPLEMENTARY INFORMATION: Additional information, including the agenda and electronic registration are available at the DHB Web site, http://www.health.mil/dhb/default.cfm. Anyone intending to attend is encouraged to register to ensure that adequate seating is available.

Purpose of the Meeting: The purpose of the meeting is to address and deliberate pending and new issues before the Board.

Agenda: On November 27, 2012, the Board will receive briefings regarding the following: Defense Centers of Excellence for Psychological Health and Traumatic Brain Injury; DoD Suicide Prevention Office; psychological health issues facing DoD; North Atlantic Treaty Organization Medical Systems Collaboration; the United Kingdom Military Health System; and the Canadian Forces Health Services Group. In addition, the DHB will report on the progress of its ongoing review of the effects of the obesity epidemic on the department and its effort to capture lessons learned in trauma in theater for the Department. Finally, the DHB will vote on proposed recommendations regarding its review of the U.S. Army report, “Categorizing Biological Agents In Post Mortem Risk Groups” and Battlefield Research, Development, Test & Evaluation Priorities.

Pursuant to 5 U.S.C. 552b, as amended, and 41 CFR 102-3.140 through 102-3.165 and subject to availability of space, the DHB meeting on November 27, 2012 will be open to the public from 9:00 a.m. to 12:15 p.m. and 1:00 p.m. to 5:00 p.m. On November 28, 2012, the Board will be conducting an administrative working session.

Written Statements: Any member of the public wishing to provide comments to the DHB may do so in accordance with 41 CFR 102-3.140(c) and section 10(a)(3) of the Federal Advisory Committee Act, and the procedures described in this notice.

Individuals desiring to provide comments to the DHB may do so by submitting a written statement to the DHB Designated Federal Officer (DFO) (see FOR FURTHER INFORMATION CONTACT). Written statements should address the following details: the issue, discussion, and a recommended course of action. Supporting documentation may also be included, as needed, to establish the appropriate historical context and to provide any necessary background information.

If the written statement is not received at least 10 calendar days prior to the meeting, the DFO may choose to postpone consideration of the statement until the next open meeting.

The DFO will review all timely submissions with the DHB President and ensure they are provided to members of the DHB before the meeting that is subject to this notice. After reviewing the written comments, the Chairperson and the DFO may choose to invite the submitter to orally present their issue during an open portion of this meeting or at a future meeting. The DFO, in consultation with the DHB Chairperson, may allot time for members of the public to present their issues for review and discussion by the Defense Health Board.

Special Accommodations: If special accommodations are required to attend (sign language, wheelchair accessibility) please contact Ms. Elizabeth MacKenzie at (703) 681-8254 by Wednesday, November 14, 2012.

Dated: October 25, 2012.
Aaron Siegel,
Alternate OSD Federal Register Liaison Officer, Department of Defense.

[FR Doc. 2012-26653 Filed 10-29-12; 8:45 am]

BILLING CODE 5001-06-P